DEPARTMENT OF TRANSPORTATION

Federal Aviation Administration

Notice of Determination of Compliance of the Noise Exposure Maps and Receipt and Request for Review of Noise Compatibility Program at Northwest Arkansas Regional Airport

AGENCY: Federal Aviation Administration, DOT.

ACTION: Notice.

SUMMARY: The Federal Aviation Administration (FAA) announces its determination that the noise exposure maps submitted by Northwest Arkansas Regional Airport Authority for Northwest Arkansas Regional Airport under the provisions of 49 U.S.C. 47501 et seq. (Aviation Safety and Noise Abatement Act) and 14 CFR part 150 are in compliance with applicable requirements. The FAA also announces that it is reviewing a proposed noise compatibility program that was submitted for Northwest Arkansas Regional Airport under part 150 in conjunction with the noise exposure maps, and that this program will be approved or disapproved on or before December 4, 2005.

DATES: The effective date of the FAA's determination on the noise exposure maps and of the start of its review of the associated noise compatibility program is June 7, 2005. The public comment period ends August 6, 2005.

FOR FURTHER INFORMATION CONTACT: Mr. Tim Tandy, Federal Aviation Administration, ASW-630, Fort Worth, TX 76193-0630; telephone number 817-222-5635. Comments on the proposed noise compatibility program should also be submitted to the above office.

SUPPLEMENTARY INFORMATION: This notice announces the FAA finds the noise exposure maps submitted for Northwest Arkansas Regional Airport are in compliance with applicable requirements of part 150, effective June 7, 2005. Further, the FAA is reviewing a proposed noise compatibility program for that airport which will be approved or disapproved on or before December 4, 2005. This notice also announces the availability of this program for public review and comment.

Under 49 U.S.C. 47503 (the Aviation Safety and Noise Abatement Act, hereinafter referred to as the “the Act”), an airport operator may submit to the FAA noise exposure maps which meet applicable regulations and which depict non-compatible land uses as of the date of submission of such maps, a description of projected aircraft operations, and the ways in which such operations will affect such maps. The Act requires such maps to be developed in consultation with interest and affected parties in the local community, government agencies, and persons using the airport.

An airport operator who has submitted noise exposure maps that are found by the FAA to be in compliance with the requirements of Federal Aviation Regulations (FAR) part 150, promulgated pursuant to the Act, may submit a noise compatibility program for FAA approval which sets forth the measures the operator has taken or proposes to take to reduce existing non-compatible uses and prevent the introduction of additional non-compatible uses.

Northwest Arkansas Regional Airport Authority submitted to the FAA on May 25, 2005, noise exposure maps, descriptions and other documentation that were produced during Northwest Arkansas Regional Airport Part 150 Study, May 2005. It was requested the FAA review this material as the noise exposure maps, as described in section 46503 of the Act, and that the noise mitigation measures, to be implemented jointly by the airport and surrounding communities, be approved as a noise compatibility program under section 47504 of the Act.

The FAA has completed its review of the noise exposure maps and related descriptions submitted by Northwest Arkansas Regional Airport Authority. The specific documentation determined to constitute the noise exposure maps includes the following from the May 2005 14 CFR part 150 Noise Study: Figure A2, Existing Airport Layout; Figure A3, Generalized Existing Land Use; Figure C10, Noise Monitoring Locations with Existing Land Use; Figure C18, Arrival/Departure Flight Tracks with Existing Land Use; Figure C24, Existing (2002) Noise Exposure Map; Figure C25, Future Base Case Noise Contours (2008) with Existing Land Use; Figure F1, Future (2008) DNL Noise Contours with Existing Land Use; Figure F2, Future (2020) DNL Noise Contours with Existing Land Use; Figure G1, Future (2008) Noise Exposure Map; Figure G2, Future (2020) DNL Noise Contours with Existing Land Use; Table A1, Summary of Historical Operations, 1990-2001; Table A2, Instrument Approach Procedures; Table B1, Historical Aviation Activity, 1990-2000; Table B2, Existing Operations by Aircraft Type, 2000; Table B4, Commercial Service Operations Forecast, 2000-2020; Table B5, General Aviation Operations Forecast Scenarios, 2000-2020; Table B6, Military Operations Forecast, 2000-2020; Table B7, Summary of Operations Forecast by Aircraft Type, 2000-2020; Table B8, Summary of Local and Itinerant Operations, 2000-2020; Table B9, Peak, Period Aircraft Operations, 2000-2020; Table B10, Based Aircraft Forecast Scenarios, 2000-2020; Table B11, Based Aircraft Forecast by Type, 2000-2020; Table B12, Summary of Aviation Activity Forecasts, 2000-2020; Table C2, Summary of Noise Measurement Survey; Table C3, Ambient Noise Levels in dB (A) by Monitoring Site; Table C4, Average Daily Departures by Aircraft Type; Table C6, ATC Tower Counts by Aircraft Class and Month; Table C7, Commercial Aircraft Types by Airline and Origin/Destination; Table C8, Existing Annual Operations by Aircraft Type and Time of Day; Table C9, Forecast of Operations, 2008; Table F1, Contour Comparison for Each Modeled Alternative; Chapter I, Consultation; Appendix One, Additional Noise Information.

The FAA has determined these maps for Northwest Arkansas Regional Airport are in compliance with applicable requirements. This determination is effective on June 7, 2005. The FAA's determination on an airport operator's noise exposure maps is limited to a finding that the maps were developed in accordance with the procedures contained in appendix A of FAR part 150. Such determination does not constitute approval of the applicant's data, information or plans, or constitute a commitment to approve a noise compatibility program or to fund the implementation of that program.

If questions arise concerning the precise relationship of specific properties to a noise exposure contours depicted on a noise exposure map submitted under section 47503 of the Act, it should be noted the FAA is not involved in any way in determining the relative locations of specific properties with regard to the depicted noise contours, or in interpreting the noise exposure maps to resole questions concerning, for example, which properties should be covered by the provisions of section 47506 of the Act. These functions are inseparable from the ultimate land use control and planning responsibilities of local government. These local responsibilities are not changed in any way under Part 150 or through the FAA's review of noise exposure maps. Therefore, the responsibility for the detailed overlaying of noise exposure contours onto the map depicting properties on the surface rests exclusively with the airport operator that submitted those maps, or with those public agencies and planning agencies with which consultation is required under section 47503 of the Act. The FAA has relied on the certification by the airport operator, under section 150.21 of FAR part 150, that the statutorily required consultation has been accomplished.

The FAA has formally received the noise compatibility program for Northwest Arkansas Regional Airport, also effective on June 7, 2005. Preliminary review of the submitted material indicates that it conforms to the requirements for the submittal of noise compatibility programs, but that further review will be necessary prior to approval or disapproval of the program. The formal review period, limited by law to a maximum of 180 days, will be completed on or before December 4, 2005.

The FAA's detailed evaluation will be conducted under the provisions of 14 CFR part 150, section 150.33. The primary considerations in the evaluation process are whether the proposed measures may reduce the level of aviation safety, create an undue burden on interstate or foreign commerce, or be reasonably consistent with obtaining the goal of reducing existing non-compatible land uses and preventing the introduction of additional non-compatible land uses.

Interested persons are invited to comment on the proposed program with specific reference to these factors. All comments, other than those properly addressed to local land use authorities, will be considered by the FAA to the extent practicable. Copies of the noise exposure map, the FAA's evaluation of the maps, and the proposed noise compatibility program are available for examination at the following locations:

Federal Aviation Administration, Arkansas/Oklahoma Airports Development Office, Room 695, 2601 Meacham Boulevard, Fort Worth, TX 76137-4298; Kelly L. Johnson, Airport Director, Northwest Arkansas Regional Airport, Alice L. Walton Terminal Building, One Airport Boulevard, Suite 100, Bentonville, AR 72712.

Questions may be directed to the individual named above under the heading, FOR FURTHER INFORMATION CONTACT.

Issued in Forth Worth, Texas, June 7, 2005.
Kelvin L. Solco,
Manager, Airports Division.

[FR Doc. 05-12375 Filed 6-21-05; 8:45 am]

BILLING CODE 4910-13-M